DEPARTMENT OF EDUCATION

Annual Notice of Interest Rates for Federal Student Loans Made Under the William D. Ford Federal Direct Loan Program Prior to July 1, 2013

AGENCY: Federal Student Aid, Department of Education.

ACTION: Notice.

Catalog of Federal Domestic Assistance (CFDA) Number: 84.268.

DATES: This notice is effective October 3, 2016.

SUMMARY: In accordance with section 455(b)(10) of the Higher Education Act of 1965, as amended, (HEA), (20 U.S.C. 1087e(b)(10)) the Chief Operating Officer for Federal Student Aid announces the interest rates for loans made under the William D. Ford Federal Direct Loan (Direct Loan) Program prior to July 1, 2013. For loans that have a variable interest rate, the rates announced in this notice are in effect for the period July 1, 2016 through June 30, 2017. The Chief Operating Officer takes this action to give notice of Direct Loan interest rates to the public.

FOR FURTHER INFORMATION CONTACT: Rene Tiongquico, U.S. Department of Education, 830 First Street NE., 11th Floor, Washington, DC 20202. Telephone: (202) 377-4270 or by email: Rene.Tiongquico@ed.gov.

If you use a telecommunications device for the deaf (TDD) or a text telephone (TTY), call the Federal Relay Service (FRS), toll free, at 1-800-877-8339.

Individuals with disabilities can obtain this document in an accessible format (e.g., Braille, large print, audiotape, or compact disc) on request to the contact person listed under FOR FURTHER INFORMATION CONTACT.

SUPPLEMENTARY INFORMATION: Section 455(b) of the Higher Education Act of 1965, as amended (HEA) (20 U.S.C. 1087e(b)), specifies the interest rates charged to borrowers for Federal Direct Subsidized Stafford/Ford Loans (Direct Subsidized Loans), Federal Direct Unsubsidized Stafford/Ford Loans (Direct Unsubsidized Loans), Federal Direct PLUS Loans (Direct PLUS Loans), and Federal Direct Consolidation Loans (Direct Consolidation Loans), collectively referred to as “Direct Loans.” The interest rates for Direct Loans may be variable or fixed.

Variable-Rate Direct Loans

Direct Subsidized Loans, Direct Unsubsidized Loans, and Direct PLUS Loans that were first disbursed before July 1, 2006, and Direct Consolidation Loans for which the application was received before February 1, 1999, have variable interest rates that are determined each year in accordance with formulas specified in section 455(b) of the HEA. The variable interest rate formula that applies to a particular loan depends on the date of the first disbursement of the loan or, for some Direct Consolidation Loans, the date the application for the loan was received. The variable rates are determined annually and are effective for each 12-month period beginning July 1 of one year and ending June 30 of the following year.

Except for Direct PLUS Loans that were first disbursed before July 1, 1998, the variable interest rates for most types of Direct Loans are based on formulas that use the bond equivalent rates of the 91-day Treasury bills auctioned at the final auction held before June 1 of each year, plus a statutory add-on percentage. In each case, the calculated rate is capped by a maximum interest rate. The bond equivalent rate of the 91-day Treasury bills auctioned on May 31, 2016, which is used to calculate the interest rates on these loans, is 0.345, rounded up to 0.35 percent.

The interest rate for Direct PLUS Loans that were first disbursed on or after July 1, 1994, and before July 1, 1998, is based on the weekly average of the one-year constant maturity Treasury yield, as published by the Board of Governors of the Federal Reserve System on the last day of the calendar week ending on or before June 26 of each year, plus a statutory add-on percentage. The calculated rate is capped by a maximum interest rate. The weekly average of the one-year constant maturity Treasury yield published on June 27, 2016, which is used to calculate the interest rate on these loans, is 0.55 percent.

Charts 1 Through 4 in This Notice Show the Interest Rates for Variable-Rate Direct Loans That Are in Effect for the Period July 1, 2016 Through June 30, 2017
Cohort: First disbursed on or after | Cohort: First disbursed before | Maximum rate (%) | Index rate: 91-Day T-Bill rate (%) | Margin: In-school, grace, deferment | Margin: All other periods (%) | Total rate: In-school, grace, deferment (%) | Total rate: All other periods (%)
7/1/1994 | 7/1/1995 | 8.25 | 0.35 | 3.10 | 3.10 | 3.45 | 3.45
7/1/1995 | 7/1/1998 | 8.25 | 0.35 | 2.50 | 3.10 | 2.85 | 3.45
7/1/1998 | 7/1/2006 | 8.25 | 0.35 | 1.70 | 2.30 | 2.05 | 2.65

Chart 2—Variable-Rate Direct PLUS Loans Interest Rates in Effect for the Period 7/1/2016 Through 6/30/2017
Cohort: First disbursed on or after | Cohort: First disbursed before | Maximum rate (%) | Index rate: 91-Day T-Bill rate (%) | Index rate: 1-Year constant treasury maturity (%) | Margin (%) | Total rate (%)
7/1/1994 | 7/1/1998 | 9.00 |  | 0.55 | 3.10 | 3.65
7/1/1998 | 7/1/2006 | 9.00 | 0.35 |  | 3.10 | 3.45

Chart 3—Variable-Rate Direct Subsidized and Direct Unsubsidized Consolidation Loans Interest Rates in Effect for the Period 7/1/2016 Through 6/30/2017
Cohort: First disbursed on or after | Cohort: First disbursed before | Maxmum rate (%) | Index rate: 91-Day T-Bill rate (%) | Margin: In-school, grace, deferment (%) | Margin: All other periods (%) | Total rate: In-school, grace, deferment (%) | Total rate: All other periods (%)
7/1/1994 | 7/1/1995 | 8.25 | 0.35 | 3.10 | 3.10 | 3.45 | 3.45
7/1/1995 | 7/1/1998 | 8.25 | 0.35 | 2.50 | 3.10 | 2.85 | 3.45
7/1/1998 | 10/1/1998 | 8.25 | 0.35 | 1.70 | 2.30 | 2.05 | 2.65
First disbursed on or after | Application received before |
10/1/1998 | 10/1/1998 | 8.25 | 0.35 | 1.70 | 2.30 | 2.05 | 2.65%
Application received on or after | Application received before |
10/1/1998 | 2/1/1999 | 8.25 | 0.35 | 2.30 | 2.30 | 2.65 | 2.65

Chart 4—Variable-Rate Direct PLUS Consolidation Loans Interest Rates in Effect for the Period 7/1/2016 Through 6/30/2017
Cohort: First disbursed on or after | Cohort: First disbursed before | Maximum rate (%) | Index rate: 91-Day T-Bill rate (%) | Index rate: 1-Year constant treasury maturity (%) | Margin: In-school, grace, deferment (%) | Margin: All other periods (%) | Total rate: In-school, race, deferment (%) | Total rate: All other periods (%)
7/1/1994 | 7/1/1998 | 9.00 |  | 0.55 | 3.10 | 3.10 | 3.65 | 3.65
7/1/1998 | 10/1/1998 | 9.00 | 0.35 |  | 3.10 | 3.10 | 3.45 | 3.45
First disbursed on or after | Application received before |
10/1/1998 | 10/1/1998 | 9.00 | 0.35 |  | 3.10 | 3.10 | 3.45 | 3.45
Application received on or after | Application received before |
10/1/1998 | 2/1/1999 | 8.25 | 0.35 |  | 2.30 | 2.30 | 2.65 | 2.65

Fixed-Rate Direct Loans

Direct Subsidized Loans, Direct Unsubsidized Loans, and Direct PLUS Loans first disbursed on or after July 1, 2006 and before July 1, 2013, and Direct Consolidation Loans for which the application was received on or after February 1, 1999, have fixed interest rates.

Direct Subsidized Loans, Direct Unsubsidized Loans, and Direct PLUS Loans first disbursed on or after July 1, 2006 and before July 1, 2013 have various fixed interest rates that are specified in section 455(b)(7) of the HEA. These fixed rates are shown in Chart 5.

Direct Consolidation Loans for which the application was received on or after February 1, 1999 and before July 1, 2013 have a fixed interest rate that is determined in accordance with sections 455(b)(6)(D) and 455(b)(7)(C) of the HEA. The fixed interest rate for these Direct Consolidation Loans is equal to the weighted average of the loans that are consolidated, rounded up to the nearest higher ⅛ of one percent, but the rate may not exceed 8.25 percent.

Chart 5 shows the fixed interest rates for Direct Subsidized Loans, Direct Unsubsidized Loans, and Direct PLUS Loans first disbursed before July 1, 2013, and for Direct Consolidation Loans for which the application was received on or after February 1, 1999 and before July 1, 2013.

Chart 5—Fixed-Rate Direct Subsidized, Direct Unsubsidized, Direct PLUS Loans, and Direct Consolidation Loans First Disbursed On or After 7/1/2006 and Before 7/1/2013
Loan type | Student grade level | First disbursed on or after | First disbursed before | Rate (%)
Subsidized | Undergraduates | 7/1/2006 | 7/1/2008 | 6.80
Subsidized | Undergraduates | 7/1/2008 | 7/1/2009 | 6.00
Subsidized | Undergraduates | 7/1/2009 | 7/1/2010 | 5.60
Subsidized | Undergraduates | 7/1/2010 | 7/1/2011 | 4.50
Subsidized | Undergraduates | 7/1/2011 | 7/1/2013 | 3.40
Subsidized | Graduate/Professional Students | 7/1/2006 | 7/1/2012 | 6.80
Unsubsidized | All | 7/1/2006 | 7/1/2013 | 6.80
PLUS | Parents and Graduate/Professionals | 7/1/2006 | 7/1/2013 | 7.90
|  | Application received on or after | Application received before |
Consolidation | N/A | 2/1/1999 | 7/1/2013 | Weighted average of rates on the loans being consolidated, rounded to nearest higher ⅛ of 1 percent, not to exceed 8.25%
|  | 7/1/2013 |  | Weighted average of rates on the loans being consolidated, rounded to nearest higher ⅛ of 1 percent

Note: Interest rates for Direct Subsidized Loans, Direct Unsubsidized Loans, and Direct PLUS Loans first disbursed on or after July 1, 2013 and before July 1, 2016 are published in earlier Federal Register notices, as follows:

• For loans first disbursed on or after July 1, 2013, and prior to July 1, 2014, see 78 FR 59011.

• For loans first disbursed on or after July 1, 2014, and prior to July 1, 2015, see 79 FR 37301.

• For loans first disbursed on or after July 1, 2015, and prior to July 1, 2016, see 80 FR 42488.

• For loans first disbursed on or after July 1, 2016, and prior to July 1, 2017, see 81 FR 38159.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 1087 et seq.

Dated: September 27, 2016.
James W. Runcie,
Chief Operating Officer, Federal Student Aid.

[FR Doc. 2016-23767 Filed 9-30-16; 8:45 am]

BILLING CODE 4000-01-P